DEPARTMENT OF COMMERCE

International Trade Administration

[A-588-856, A-580-846, A-469-810]

Notice of Final Determinations of Sales at Less Than Fair Value: Stainless Steel Angle From Japan, Korea, and Spain

AGENCY: Import Administration, International Trade Administration, Department of Commerce.

ACTION: Notice of final determinations.

EFFECTIVE DATE: March 23, 2001.

FOR FURTHER INFORMATION CONTACT: Jarrod Goldfeder (Japan) at (202) 482-0189, Brian Smith (Korea) at (202) 482-1766, Minoo Hatten (Spain) at (202) 482-1690, Import Administration, International Trade Administration, U.S. Department of Commerce, 14th Street and Constitution Avenue, NW., Washington, DC 20230.

Final Determinations

We determine that stainless steel angles (“SSA”) from Japan, Korea, and Spain are being, or are likely to be, sold in the United States at less-than-fair-value (“LTFV”) prices, as provided in section 735 of the Tariff Act of 1930, as amended (“the Act”). The estimated margins of sales at LTFV are shown in the “Suspension of Liquidation” section of this notice.

The Applicable Statute

Unless otherwise indicated, all citations to the statute are references to the provisions effective January 1, 1995, the effective date of the amendments made to the Act by the Uruguay Round Agreements Act (“URAA”). In addition, unless otherwise indicated, all citations to the Department of Commerce's (“the Department's”) regulations refer to 19 CFR part 351 (2000).

Case History

The preliminary determinations in these investigations were issued on January 8, 2001. See Notice of Preliminary Determinations of Sales at Less Than Fair Value: Stainless Steel Angle from Japan, Korea, and Spain, 66 FR 2880 (January 12, 2001) (“Preliminary Determinations”). No briefs were filed in these investigations commenting on the Preliminary Determinations.

Scope of Investigations

For purposes of these investigations, the term “stainless steel angles” includes hot-rolled, whether or not annealed or descaled, stainless steel products of equal leg length angled at 90 degrees, that are not otherwise advanced. The stainless steel angle subject to these investigations is currently classifiable under subheadings 7222.40.30.20 and 7222.40.30.60 of the Harmonized Tariff Schedules of the United States (“HTSUS”). Specifically excluded from the scope of these investigations is stainless steel angle of unequal leg length. Although the HTSUS subheadings are provided for convenience and customs purposes, our written description of the scope of these investigations is dispositive.

Period of Investigation

The period of these investigations (“POI”) is August 1, 1999, through July 31, 2000.

Facts Available

In the Preliminary Determinations, the Department based the dumping margins for the exporters in the three SSA cases (i.e., companies to which the Department issued the antidumping questionnaire) on facts otherwise available, pursuant to section 776(a)(2) of the Act. These following exporters received company-specific rates: Daido Steel Co., Ltd. (“Daido”), Aichi Steel Corporation (“Aichi”), and Sumitomo Metal Industries, Ltd., (“Sumitomo”) (respondents in the SSA case from Japan); Bae Myung Metal Co., Ltd. (“Bae Myung”) and SK Global Co., Ltd. (“SK Global”) (respondents in the SSA case from Korea); Roldan, S.A. (“Roldan”) (respondent in the SSA case from Spain).

The use of facts otherwise available was required because the record for each SSA case did not contain company-specific information, given the respondents' failure in each SSA case to respond to the Department's antidumping questionnaire. See Preliminary Determinations, 64 FR at 2883. For purposes of the Preliminary Determinations, the Department also found that, in each SSA case, each of the respondents failed to cooperate by not acting to the best of its ability to comply with the Department's request for information within the meaning of section 776(b) of the Act. Accordingly, the Department determined to use an adverse inference in selecting from among the facts otherwise available. See id. Specifically, the Department assigned to the respondents in these cases the highest margins alleged in the petition or as recalculated by the Department, which were corroborated as required by section 776(c) of the Act (see id.). Following the Preliminary Determinations, interested parties did not file any comments and have not objected either to the Department's decision to use adverse facts available for the respondents in these investigations or to the Department's choice of facts available. Accordingly, for the reasons discussed in the Preliminary Determinations, for these final determinations the Department is continuing to apply adverse facts available to each of the respondents in each case and to use the highest margins alleged in the petition or as recalculated by the Department for the respondents in these cases. See, e.g., Notice of Final Determination of Sales at Less Than Fair Value: Certain Expandable Polystyrene Resins from Indonesia, 65 FR 69285 (November 16, 2000). In addition, the Department has left unchanged from the Preliminary Determinations the “All Others Rate” in each SSA case, which is the average of all the rates provided in the petition or in amendments to the petition.

Continuation of Suspension of Liquidation

In accordance with section 735(c)(1)(B) of the Act, we are directing the Customs Service to continue to suspend all entries of SSA from Japan, Korea, and Spain that are entered, or withdrawn from warehouse, for consumption on or after January 12, 2001, the date of publication of our Preliminary Determinations. The Customs Service shall require a cash deposit or the posting of a bond equal to the dumping margins, as indicated in the chart below. These instructions will remain in effect until further notice. The dumping margins for each LTFV proceeding are as follows:

| Weighted-average margin percentage
Exporter/Manufacturer (Japan):
Daido | 114.51
Aichi | 114.51
Sumitomo | 114.51
All Others | 70.48
Exporter/Manufacturer (Korea):
Bae Myung | 99.56
SK Global | 99.56
All Others | 40.21
Exporter/Manufacturer (Spain):
Roldan | 61.45
All Others | 24.32

ITC Notification

In accordance with section 735(d) of the Act, we have notified the International Trade Commission (“ITC”) of our final determinations. As our final determinations are affirmative, the ITC will, within 45 days, determine whether these imports are materially injuring, or threaten material injury to, the U.S. industry. If the ITC determines that such injury does exist, the Department will issue antidumping duty orders directing the Customs Service to assess antidumping duties on all imports of the subject merchandise entered, or withdrawn from warehouse, for consumption on or after the effective date of the suspension of liquidation.

This notice also serves as a reminder to parties subject to administrative protective order (“APO”) of their responsibility concerning the disposition of proprietary information disclosed under APO in accordance with 19 CFR 351.305. Timely notification of return or destruction of APO materials, or conversion to judicial protective order, is hereby requested. Failure to comply with the regulations and the terms of an APO is a sanctionable violation.

These determinations are published pursuant to sections 735(d) and 777(i)(1) of the Act.

Dated: March 16, 2001.
Timothy J. Hauser,
Acting Under Secretary for International Trade.

[FR Doc. 01-7315 Filed 3-22-01; 8:45 am]

BILLING CODE 3510-DS-P